NUCLEAR REGULATORY COMMISSION

Agency Information Collection Activities: Submission for the Office of Management and Budget (OMB) Review; Comment Request

AGENCY: U. S. Nuclear Regulatory Commission (NRC).

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number.

1. Type of submission, new, revision, or extension: Extension.

2. The title of the information collection:

DOE/NRC Form 741, Nuclear Material Transaction Report; DOE/NRC Form 740M, Concise Note; and NUREG/BR-0006, Revision 6, Instructions for Completing Nuclear Material Transaction Reports (DOE/NRC Forms 741 and 740M).

3. The form number if applicable:

DOE/NRC Form 741: 3150-0003.

DOE/NRC Form 740M: 3150-0057.

4. How often the collection is required:

DOE/NRC Form 741: As occasioned by special nuclear material or source material transfers, receipts, or inventory changes that meet certain criteria. Licensees range from not submitting any forms to submitting over 5,000 forms annually.

DOE/NRC Form 740M: As necessary to inform the U.S. or the International Atomic Energy Agency (IAEA) of any qualifying statement or exception to any of the data contained in any of the other reporting forms required under the US/IAEA Safeguards Agreement. On average, 15 licensees submit about 10 forms each per year—150 forms annually.

5. Who will be required or asked to report: Persons licensed to possess specified quantities of special nuclear material or source material, and licensees of facilities on the U.S. eligible list who have been notified in writing by the Commission that they are subject to part 75.

6. An estimate of the number of responses:

DOE/NRC Forms 741: 36,650.

DOE/NRC Form 740M: 150.

7. An estimate of the number of annual respondents:

DOE/NRC Forms 741: 400.

DOE/NRC Form 740M: 15.

8. The number of hours needed annually to complete the requirement or request:

DOE/NRC Form 741: 45,813 hours for NRC and Agreement State licensees (or an average of 1.25 hours per response); DOE/NRC Form 740M: 113 hours (or an average of .75 hours per response).

9. An indication of whether section 3507(d), Pub. L. 104-13 applies: NA.

10. Abstract: NRC and Agreement State licensees are required to make inventory and accounting reports on DOE/NRC Forms 741 for certain source or special nuclear material, or for transfer or receipt of 1 kilogram or more of source material. Licensees affected by part 75 and related sections of parts 40, 50, 70, and 150 are required to submit DOE/NRC Form 740M to inform the U.S. or the IAEA of any qualifying statement or exception to any of the data contained in any of the other reporting forms required under the US/IAEA Safeguards Agreement. The use of Forms 740M and 741, together with NUREG/BR-0006, Revision 6, the instructions for completing the forms, enables NRC to collect, retrieve, analyze as necessary, and submit the data to IAEA to fulfill its reporting responsibilities.

A copy of the final supporting statement may be viewed free of charge at the NRC Public Document Room, One White Flint North, 11555 Rockville Pike, Room O-1 F21, Rockville, MD 20852. OMB clearance requests are available at the NRC worldwide Web site http://www.nrc.gov/public-involve/doc-comment/omb/index.html. The document will be available on the NRC home page site for 60 days after the signature date of this notice.

Comments and questions should be directed to the OMB reviewer listed below by April 18, 2005. Comments received after this date will be considered if it is practical to do so, but assurance of consideration cannot be given to comments received after this date.

John Asalone, Office of Information and Regulatory Affairs (3150-0003; -0057), NEOB-10202, Office of Management and Budget, Washington, DC 20503.

Comments can also be e-mailed to John_A._Asalone@ombeop.gov or submitted by telephone at (202) 395-3087.

The NRC Clearance Officer is Brenda Jo. Shelton, (301) 415-7233.

Dated in Rockville, Maryland, this 10th day of March, 2005.
For the Nuclear Regulatory Commission.
Brenda Jo. Shelton,
NRC Clearance Officer, Office of Information Services.

[FR Doc. 05-5278 Filed 3-16-05; 8:45 am]

BILLING CODE 7590-01-P